ENVIRONMENTAL PROTECTION AGENCY

40 CFR Part 52

[IN122-1b; FRL-7107-8]

Approval and Promulgation of Implementation Plans; Indiana

AGENCY: Environmental Protection Agency (EPA).

ACTION: Proposed rule.

SUMMARY: The EPA is proposing to approve revisions to Indiana's opacity rules. The Indiana Department of Environmental Management (IDEM) submitted revised opacity rules on October 21, 1999, as a requested revision to its State Implementation Plan (SIP). The revisions address the provisions of Indiana's opacity rule concerning the startup and shutdown of operations, the terminology used in discussing averaging periods, time periods for temporary exemptions, alternative opacity limits, and conflicts between visible opacity readings and continuous opacity monitor data.

A major new component of this rule is a provision that allows the State to incorporate source-specific startup and shutdown provisions into federal operating permits for certain utility boilers, as long as those provisions fall within a range established in the rule. All of the revisions satisfy EPA guidelines.

DATES: The EPA must receive written comments by December 31, 2001.

ADDRESSES: You should mail written comments to: J. Elmer Bortzer, Chief, Regulation Development Section, Air Programs Branch (AR-18J), U.S. Environmental Protection Agency, Region 5, 77 West Jackson Boulevard, Chicago, Illinois 60604.

You may inspect copies of Indiana's submittal at: Regulation Development Section, Air Programs Branch (AR-18J), U.S. Environmental Protection Agency, Region 5, 77 West Jackson Boulevard, Chicago, Illinois 60604.

FOR FURTHER INFORMATION CONTACT: Matt Rau, Environmental Engineer, Regulation Development Section, Air Programs Branch (AR-18J), U.S. Environmental Protection Agency, Region 5, 77 West Jackson Boulevard, Chicago, Illinois 60604, Telephone: (312) 886-6524.

SUPPLEMENTARY INFORMATION: Throughout this document wherever “we,” “us,” or “our” are used we mean the EPA.

Table of Contents

I. What actions are the EPA taking today?

II. Where can I find more information about this proposal and the corresponding direct final rule?

I. What Actions Are the EPA Taking Today?

The EPA is proposing to approve revisions to Indiana's opacity rules. The revisions address the provisions of Indiana's opacity rule concerning the startup and shutdown of operations, the terminology used in discussing averaging periods, time periods for temporary exemptions, alternative opacity limits, and conflicts between visible emission readings and COM data.

II. Where Can I Find More Information About This Proposal and the Corresponding Direct Final Rule?

For additional information see the direct final rule published in the rules section of this Federal Register.

List of Subjects in 40 CFR Part 52

Environmental protection, Air pollution control, Incorporation by reference, Intergovernmental relations, Particulate matter, Reporting and recordkeeping requirements.

Dated: November 8, 2001.
Norman Niedergang,
Acting Regional Administrator, Region 5.

[FR Doc. 01-29649 Filed 11-29-01; 8:45 am]

BILLING CODE 6560-50-P